DEPARTMENT OF TRANSPORTATION

Maritime Administration

[Docket No. MARAD-2017-0045]

Agency Requests for Renewal of a Previously Approved Information Collection(s): Voluntary Intermodal Sealift Agreement (VISA)

AGENCY: Maritime Administration, DOT.

ACTION: Notice and request for comments.

SUMMARY: The Maritime Administration (MARAD) invites public comments about our intention to request the Office of Management and Budget (OMB) approval to renew an information collection. The information to be collected will be used by MARAD and the U.S. Transportation Command, and its components, to assure the continued availability of commercial sealift resources to meet the Department of Defense (DOD) military requirements. We are required to publish this notice in the Federal Register by the Paperwork Reduction Act of 1995.

DATES: Written comments should be submitted by May 22, 2017.

ADDRESSES: You may submit comments [identified by Docket No. DOT-MARAD-2017-0045] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: William McDonald, 202-366-0688, Office of Sealift Support, U.S. Department of Transportation, 1200 New Jersey Avenue SE., Washington, DC, 20590.

SUPPLEMENTARY INFORMATION: OMB Control Number: 2133-0532.

Title: Voluntary Intermodal Sealift Agreement (VISA).

Form Numbers: MA-1020.

Type of Review: Renewal of an information collection.

Background: The collection is in accordance with Section 708, Defense Production Act, 1950, as amended, under which participants agree to provide commercial sealift capacity and intermodal shipping services and systems necessary to meet national defense requirements. In order to meet national defense requirements, the government must assure the continued availability of commercial sealift resources. The information collection is needed by MARAD and the Department of Defense (DOD), including representatives from the U.S. Transportation Command, to evaluate and assess the applicants' eligibility for participation in the VISA program.

Respondents: Operators of qualified dry cargo vessels.

Number of Respondents: 40.

Frequency: Annually.

Number of Responses: 40.

Total Annual Burden: 200 hours.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:93.

Dated: March 17, 2017.
T. Mitchell Hudson, Jr.,
Secretary, Maritime Administration.

[FR Doc. 2017-05655 Filed 3-21-17; 8:45 am]

BILLING CODE 4910-81-P